DEPARTMENT OF THE INTERIOR

National Park Service

Notice of Inventory Completion: Oregon State University Department of Anthropology, Corvallis, OR

AGENCY: National Park Service, Interior.

ACTION: Notice.

Notice is here given in accordance with the Native American Graves Protection and Repatriation Act (NAGPRA), 25 U.S.C. 3003, of the completion of an inventory of human remains in the control of Oregon State University Department of Anthropology, Corvallis, OR. The human remains were removed from Harney County, OR.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Oregon State University Department of Anthropology professional staff in consultation with representatives of the Burns Paiute Tribe of the Burns Paiute Indian Colony of Oregon and Confederated Tribes of the Umatilla Reservation, Oregon.

On an unknown date, human remains representing a minimum of one individual were removed from a site in Drewsey, Harney County, OR. The donor and circumstances of removal are unknown (UNKNO-C89-0001). No known individual was identified. No associated funerary objects are present.

Consultation with tribes indicates that Drewsey, Harney County, OR, is in the traditional and current territory of the Burns Paiute Tribe of the Burns Paiute Indian Colony of Oregon. Based on provenience, the human remains are reasonably believed to be affiliated with the Burns Paiute Tribe of the Burns Paiute Indian Colony of Oregon.

Officials of the Oregon State University Department of Anthropology have determined that, pursuant to 25 U.S.C. 3001(9-10), the human remains described above represent the physical remains of one individual of Native American ancestry. Officials of the Oregon State University Department of Anthropology have determined that, pursuant to 25 U.S.C. 3001(2), there is a relationship of shared group identity that can be reasonably traced between the Native American human remains and the Burns Paiute Tribe of the Burns Paiute Indian Colony of Oregon.

Representatives of any other Indian tribe that believes itself to be culturally affiliated with the human remains should contact Dr. David McMurray, Oregon State University Department of Anthropology, 238 Waldo Hall, Corvallis, OR 97331, telephone (541) 737-4515, before May 19, 2008. Repatriation of the human remains to the Burns Paiute Tribe of the Burns Paiute Indian Colony of Oregon may proceed after that date if no additional claimants come forward.

Oregon State University Department of Anthropology is responsible for notifying the Burns Paiute Tribe of the Burns Paiute Indian Colony of Oregon; Confederated Tribes of the Coos, Lower Umpqua and Siuslaw Indians of Oregon; Confederated Tribes of the Grand Ronde Community of Oregon; Confederated Tribes of the Siletz Reservation, Oregon; Confederated Tribes of the Umatilla Reservation, Oregon; Confederated Tribes of the Warm Springs Reservation of Oregon; Coquille Tribe of Oregon; Cow Creek Band of Umpqua Indians of Oregon; and Klamath Tribes, Oregon that this notice has been published.

Dated: March 18, 2008.
Sherry Hutt,
Manager, National NAGPRA Program.

[FR Doc. E8-8298 Filed 4-16-08; 8:45 am]

BILLING CODE 4312-50-S